DEPARTMENT OF THE INTERIOR

Office of the Secretary

[RR01010000, XXXR0680U4, RP.52225010.5395004]

Columbia River Treaty Negotiations With Canada

AGENCY: Bureau of Indian Affairs, Bureau of Reclamation; Interior.

ACTION: Notice of Tribal consultation.

SUMMARY: The Department of the Interior (Interior) will be hosting a government-to-government consultation with interested Tribes of the Columbia River basin addressing the ongoing Columbia River Treaty regime modernization negotiations between the United States and Canada.

DATES: A group Tribal consultation session will be held from 9 a.m. to 1 p.m. on August 28, 2019, and individual consultation sessions with Tribes will be held from 1 p.m. to 5 p.m. on August 28, 2019 and from 9 a.m. to 5 p.m. on August 29, 2019. To schedule an individual session, please contact the person listed in the FOR FURTHER INFORMATION CONTACT section of this notice. Written input must be postmarked by September 13, 2019.

ADDRESSES: The Tribal consultation session will be held at the Bonneville Power Administration (BPA) Rates Hearing Room, 1201 Lloyd Blvd., Suite 200, Portland, OR. Please submit any written input to Columbia River Treaty Negotiations with Canada c/o Elizabeth Appel, Office of the Assistant Secretary—Indian Affairs, 1849 C Street NW, MS 4660, Washington, DC 20240.

FOR FURTHER INFORMATION CONTACT: Mr. David Denton, Pacific Northwest Regional Liaison, U.S. Bureau of Reclamation, telephone (202) 513-0671, email: pnliaison@usbr.gov.

SUPPLEMENTARY INFORMATION: The Department of the Interior strives for meaningful engagement with the Tribes in the Columbia River basin on the topic of Columbia River Treaty negotiations with Canada. The U.S. Department of State leads negotiations for the United States Government in the negotiations between the United States and Canada to modernize the Columbia River Treaty regime. The Department of State holds periodic consultations with Tribes in the Columbia River basin regarding the negotiations, and also invites representatives from Interior, Bonneville Power Administration, National Oceanic and Atmospheric Administration (NOAA) Fisheries, and the U.S. Army Corps of Engineers. Interior has participated in all of these Tribal consultations. In conjunction with the State Department's periodic consultations with Tribes, the Interior Department will also host a government-to-government consultation with all interested Tribes in the Columbia River Basin addressing the Treaty regime modernization negotiations. Because the State Department leads the U.S. Government's participation in the negotiations, Interior will hold this consultation in concert with the State Department and will invite representatives of the other participating Federal agencies.

As the Secretary of the Interior's delegated representative and lead for many Columbia River basin matters, the office of the Assistant Secretary for Water and Science is hosting this consultation, with assistance from the office of the Assistant Secretary for Indian Affairs. Interior invites interested Tribes in the Columbia River Basin to participate in person or provide written comments, as detailed in the DATES and ADDRESSES sections of this document.

Dated: July 26, 2019.
Timothy R. Petty,
Assistant Secretary for Water and Science.
Tara Sweeney,
Assistant Secretary—Indian Affairs.

[FR Doc. 2019-17786 Filed 8-16-19; 8:45 am]

BILLING CODE 4332-90-P